FEDERAL COMMUNICATIONS COMMISSION

47 CFR Part 73

[DA 06-1761; MB Docket No. 05-147; RM-10823]

Radio Broadcasting Services; Fort Lauderdale and Lake Park, FL

AGENCY: Federal Communications Commission.

ACTION: Final rule.

SUMMARY: The Audio Division, at the request of Charles Crawford, allots Channel 262A to Lake Park, Florida, as its first local service. To accommodate the proposal consistent with the minimum distance separation requirements of the Commission's rules, this document also grants the reclassification of WHYI-FM, Fort Lauderdale, Florida, to specify operation on Channel 264C0 in lieu of Channel 264C. No response was filed to the Order to Show Cause issued to Clear Channel Broadcasting Licenses, Inc., licensee of Station WHYI-FM, Fort Lauderdale, Florida. Channel 262A at Lake Park can be allotted consistent with the minimum distance separation requirements of the Commission's Rules with a site restriction of 4.7 kilometers (2.9 miles) south of the community. The reference coordinates for Channel 262A at Lake Park are 26-45-29 NL and 80-03-28 WL.

DATES: Effective October 20, 2006.

FOR FURTHER INFORMATION CONTACT: Rolanda F. Smith, Media Bureau, (202) 418-2180.

SUPPLEMENTARY INFORMATION: This is a synopsis of the Commission's Report and Order, MB Docket No. 05-147, adopted August 31, 2006, and released September 5, 2006. The full text of this Commission decision is available for inspection and copying during normal business hours in the FCC Reference Information Center (Room 239), 445 12th Street, SW., Washington, DC 20554. The complete text of this decision may also be purchased from the Commission's duplicating contractor, Best Copy and Printing, Inc., 445 12th Street, SW., Room CY-B402, Washington, DC 20554, telephone 1-800-378-3160 or http://www.bcpiweb.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Florida is amended by removing Channel 264C and by adding Channel 264C0 at Fort Lauderdale; and by adding Lake Park, Channel 262A.

Federal Communications Commission.
John A. Karousos,
Assistant Chief, Audio Division, Media Bureau.

[FR Doc. E6-15598 Filed 9-19-06; 8:45 am]

BILLING CODE 6712-01-P